DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Coral Reef Conservation Program Administration.

Form Number(s): None.

OMB Approval Number: 0648-0448.

Type of Request: Regular submission.

Burden Hours: 78.

Number of Respondents: 38.

Average Hours Per Response: 1 hour.

Needs and Uses: The Coral Reef Conservation Grant Program provides funds to a broad-based group of applicants with experience in coral reef conservation to conduct activities to protect and conserve coral reef ecosystems. The information submitted is used to determine: (1) Whether the applicant qualifies for a waiver of matching funds, and (2) if a proposed project is consistent with the coral reef conservation priorities of authorities with jurisdiction over the area where the project will be carried out. The respondents will be applicants to the grant program and/or reviewers of relevant project proposals.

Affected Public: Not-for-profit institutions; Federal government; State, local or tribal government.

Frequency: Required to obtain or retain benefits.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 30, 2005.
Gwellnar Banks,
Management Analyst, Office of the Chief Information Officer.

[FR Doc. 05-6669 Filed 4-4-05; 8:45 am]

BILLING CODE 3510-JE-P